DEPARTMENT OF TRANSPORTATION

Federal Aviation Administration

14 CFR Part 73

[Docket No. FAA-2020-0755-; Airspace Docket No. 19-AAL-83]

RIN 2120-AA66

Amendment of R-2206 and Establishment of Restricted Areas R-2206B, R-2206C, R-2206D, R-2206E, R-2206F, and R-2206G; Clear, AK

AGENCY: Federal Aviation Administration (FAA), DOT.

ACTION: Final rule.

SUMMARY: This action amends restricted area R-2206 by renaming it R-2206A and establishes six new restricted areas R-2206B, R-2206C, R-2206D, R-2206E, R-2206F, and R-2206G, over Clear, AK. The FAA has determined that these actions are necessary to protect aircraft from the hazardous High-Intensity Radiated Field (HIRF) produced by the Long Range Discrimination Radar (LRDR) and segregate non-participating aircraft.

DATES: Effective date 0901 UTC, December 29, 2022.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends an existing restricted area and establishes restricted areas over Clear, AK, to protect operators from activities deemed hazardous to nonparticipating aircraft.

History

Notice of Proposed Rulemaking

The FAA published a notice of proposed rulemaking (NPRM) in the Federal Register (86 FR 11194; February 24, 2021), amending R-2206 by renaming it and establishing restricted areas R-2206B, R-2206C, R-2206D, R-2206E, R-2206F, and R-2206G over Clear, AK. Interested parties were invited to participate in this rulemaking effort by submitting written comments on the proposal.

History of R-2206 and Clear Airport

R-2206 was initially established as R-20 on January 1, 1961 (25 FR 12174), over the Clear Air Force Station (AFS) ¹ at Clear, AK, to protect the National Airspace System (NAS) while a potential radiation hazard caused by the Ballistic Missile Early Warning System (BMEWS) was assessed by the United States Air Force (USAF). On May 12, 1962, the designation of R-2206 was amended to extend the duration for an indefinite period (27 FR 4553) due to ongoing concern regarding the radiation hazard associated with the BMEWS.

¹ On June 15, 2021, Clear AFS was renamed Clear Space Force Station. The renaming was part of ongoing efforts to develop the United States Space Force (USSF). Throughout this document, for continuity with the proposal and clarity, the FAA will use term Clear AFS.

Initially established for private use by the military in support of the BMEWS mission, Clear Airport (PACL) is located less than a ½ Nautical Mile (NM) from the eastern boundary of R-2206. The airport was leased by the Secretary of the Air Force to the State of Alaska on December 20, 1974. The FAA performed an airspace review and issued a letter of “no objection” to convert the airport from private to public use on January 20, 1976.² Subsequently, the land (1,814 acres) on which PACL is located was declared surplus by the USAF and conveyed to the State of Alaska in the late 1980s. PACL has remained in its original location since its conversion to a public use airport.

² A copy of this letter is in the docket for this rulemaking.

The FAA did not object to the proximity of R-2206 to the airport when it was converted to a public use airport because, at the time of conversion, there was no established standard to separate restricted areas and public use airports. The FAA later established that a restricted area must exclude airspace 1,500 feet above ground level (AGL) and below that is within a 3 NM radius of airports available for public use (“1,500AGL/3NM”) in the September 16, 1993, edition of FAA Order JO 7400.2, Procedures for Handling Airspace Matters.³ The FAA therefore considers the original R-2206 as excepted from the subsequently established “1,500AGL/3NM” restricted area exclusion in FAA Order JO 7400.2.

³ The current version of this Order is accessible at: https://www.faa.gov/documentLibrary/media/Order/7400.2M_Bsc_w_Chg_1_2_dtd_7_16_20.pdf. See sub-section 23-1-4, Restricted Area Floor.

Drivers for Missile Defense Agency's (MDA) LRDR

Section 235(a)(1) of the National Defense Authorization Act (NDAA) for Fiscal Year (FY) 2014 required Missile Defense Agency to deploy a LRDR to protect the United States against long-range ballistic missile threats from the Democratic People's Republic of Korea (North Korea) and to locate the LRDR “at a location optimized to support the defense of the homeland of the United States.” Public Law 113-66; 10 U.S.C. 2431 (Dec. 26, 2013). Section 235(b)(1) of the NDAA for FY 2014 also required the Secretary of Defense to ensure the capability “to deploy additional tracking and discrimination sensor capabilities to support the defense of the homeland of the United States from future long-range ballistic missile threats that emerge from Iran.”

Section 1684 of the NDAA for FY 2016 expressed “the sense of Congress that additional missile defense sensor discrimination capabilities are needed to enhance the protection of the United States homeland against potential long-range ballistic missiles from Iran that, according to the Department of Defense, could soon be obtained by Iran as a result of its active space launch program.” Public Law 114-92; 10 U.S.C. 2431 (Jan. 6, 2015). Moreover, Section 1684(d)(1) of the NDAA for FY 2016 established a December 31, 2020, deadline for the deployment of a defensive system.

After a detailed evaluation of cost, schedule, and performance as well as other mission related factors, the Department of Defense (DoD) determined that Clear AFS was the preferred site for the LRDR and designated the USAF as the lead service for LRDR.

Mission of LRDR Program

The mission of the LRDR program is to define, develop, acquire, test, field, and sustain the LRDR as an element of the DoD Ballistic Missile Defense System (BMDS) in support of the Ground-Based Midcourse Defense (GMO) program's Homeland Defense Capability. The LRDR will provide persistent long-range midcourse discrimination, precision tracking, and hit assessment to support the GMO capability against long-range missile threats originating from North Korea and Iran. LRDR contributes to MDA's mission of developing and deploying a layered BMDS to defend the United States from ballistic missile attacks of all ranges in all phases of flight. LRDR's improved discrimination capability increases the defensive capacity of the homeland defense interceptor inventory by enabling the conservation of ground-based interceptors. LRDR also supports additional DoD mission areas such as Space Situational Awareness and Intelligence Data Collection. Changes in operational posture due to the evolving threat, which would result in LRDR deployment with unacceptable levels of HIRF exposure for aviation, necessitate the requirement for additional restricted airspace to support LRDR's critical national defense mission at Clear AFS.

USAF Proposal to the FAA

By memorandum dated September 30, 2019, the USAF submitted a proposal to the FAA to establish two new restricted areas in the vicinity of Clear AFS, to protect the NAS from the HIRF produced by the LRDR. The proposed restricted area requires lateral and vertical limits larger than the current R-2206 to support the deployment of the DoD's LRDR to meet increased warfighter defense and readiness postures. This rule maintains the existing restricted area R-2206 in its current configuration but renames it R-2206A, and supplements this area with six new restricted areas designated R-2206B, R-2206C, R-2206D, R-2206E, R-2206F, and R-2206G. The FAA identified the need for one of the new restricted areas (i.e., R-2206F) that provides an additional 1,100 feet of navigable airspace along Parks Highway to the Northeast of Clear, AK. This additional restricted area allows for a visual route following a known landmark during normal operations. The addition of the new restricted area lead the FAA to re-letter the restricted areas for a more logical sequence (i.e., from low to high on the west side and then from low to high on the east side).

The rule applies the “1,500AGL/3NM” restricted area exclusion for PACL for the new restricted areas, with exceptions. The FAA approved a limited deviation from its “1,500AGL/3NM” restricted area exclusion standard, published in FAA Order JO 7400.2, paragraph 23-1-4.c., for R-2206D and R-2206E, given the extraordinary nature of the LRDR national defense mission required by Congressional mandate, the limited citing options available to the USAF to achieve its mission, and FAA's ability to identify and implement airspace safety and access mitigations at Clear, AK.

As previously explained, the NDAA for FY 2014 required MDA to deploy a LRDR “at a location optimized to support the defense of the homeland of the United States.” Public Law 113-66; 10 U.S.C. 2431 (Dec. 26, 2013). Moreover, MDA was subsequently directed to deploy the system by December 31, 2020. The NDAA for FY 2016 created the LRDR program of record and required “in a location optimized to support the defense of the homeland of the United States from emerging long-range ballistic missile threats from Iran.” Public Law 114-328; 10 U.S.C. 2431 (Dec. 23, 2016). To support implementation of this mission, the MDA narrowed the LRDR site selection from 50 possible locations to two locations in Alaska based on evaluative criteria that included, construction and schedule timelines in light of the NDAA mandate, mission assurance, impacts to existing civilian and military infrastructure, and other resource considerations. Of the two remaining sites, only Clear AFS met all of the levied LRDR requirements. The alternative option in Alaska, Eareckson AFS, was ruled out due to remote geographical concerns, which added unacceptable risk to timely and successful deployment as compared to Clear AFS. Moreover, the MDA concluded that the Clear AFS location in Central Alaska offered expanded engagement space necessary to fulfill the LRDR mission. This additional engagement space affords more visibility of hostile threat complexes and greater time to track, discriminate and target lethal incoming objects and results in a much greater probability of successful target intercept. The siting recommendation of Clear AFS was approved in 2016 by the USAF and funding for LRDR at Clear AFS was approved in the NDAA for FY17.⁴

⁴ The FAA uploaded a graphical depiction of the restricted areas to the docket for this rulemaking during the NPRM phase.

The FAA emphasizes that any deviations from an FAA Order is reserved for extraordinary circumstances. In this case, the FAA determined that the national defense benefits of a deviation outweigh the costs of any additional airspace safety and access mitigations to manage the safe and efficient operation of the NAS and impacts to PACL. The decision to deviate from FAA Order JO 7400.2 in this rulemaking action is not binding on future determinations by the FAA concerning whether to approve a deviation as each deviation is reviewed on a case-by-case basis. The FAA will review any future requests on their merits, based on the facts and circumstances available at that time and consistent with the FAA's statutory responsibilities.

Activities Within R-2206A-G

The activity to be performed at Clear, AK, within the restricted areas is Ballistic Missile Defense (BMD) of the United States. System testing started in early 2021 and will continue until it is fully integrated into the DoD BMDS. During the system testing phase, the FAA established Title 14 Code of Federal Regulations (CFR) 99.7, special security instructions (SSI), implemented as temporary flight restrictions, as an interim airspace mitigation to protect aviation from the HIRF produced by the LRDR system not covered by R-2206. LRDR is a unique and vital component of the BMDS and will be available continuously both as an early-warning sensor and as an enabler for more effective employment of ground-based interceptors. The LRDR design features high system availability and maintain-while-operate architecture; this ensures that LRDR will be in a continual posture to fight in response to real-word, no-notice events. LRDR also supports additional mission areas including Space Situational Awareness and Intelligence Data Collection.

In routine or normal defensive posture, LRDR will operate at reduced HIRF levels within the restricted areas that provide for the “1,500AGL/3NM” restricted area exclusion. This will be accomplished by enforcing main beam elevation limits in the direction of Clear Airport to provide a minimum of 1,500 feet AGL under the portions of restricted areas within 3 NM of the airport. Prescheduled maintenance and calibration activities will also occur during routine or normal posture and would require activation of the additional restricted areas during a few periods per week for a couple of hours at a time. These activities will be scheduled when expected air traffic around Clear Airport is minimal, with scheduled times openly distributed by Notice to Air Missions (NOTAM) and other outreach mechanisms.

In heightened defensive posture, MDA may require use of all the restricted areas to conduct missile defense or other activities in response to real-world events. During these periods of heightened defensive posture, LRDR will be activated with access to its full field of coverage, which may necessitate activation of all restricted areas; this provides LRDR access to the airspace for defensive actions within 3NM of Clear Airport at and above 400 feet AGL. Besides conducting actual BMDS engagements, LRDR activities that may require temporary activation of all restricted areas include BMDS tests, unique intelligence collection activities such as new foreign space launches, or critical space activities such as collision avoidance involving manned space-flight, satellite break-ups, and satellite deorbits.

Required Coordination Between the FAA, MDA, and USSF

The FAA, MDA, and United States Space Force (USSF) currently have a Letter of Agreement (LOA) in place setting forth the air traffic control (ATC) procedures to use while the SSI implemented as temporary flight restrictions are in place. The LOA establishes authorities, responsibilities, and procedures associated with the coordination of air ambulance flights or other contingencies required for aircraft to fly into and out of the Clear Airport and Healy River Airport (PAHV) during the LRDR operation.

The FAA, MDA, and USSF are currently developing a Letter of Procedure (LOP) that will be effective when the rule goes into effect replacing the LOA now in place for the SSI implemented as temporary flight restrictions. This LOP will remain in place until the LRDR system is fully integrated into the DoD's BMDS. The LOP will address emergency or extraordinary events. The LOP will also address pre-determined NOTAMs to handle the activation and scheduling of the three non-continuous restricted areas (R-2206D-F). The LOP will include procedures for handling national defense no-notice activation from NORAD-USNORTHCOM Command Center, as well as notification times for all other requests, to ensure a NOTAM and notifications to the surrounding areas and aviators can take place with reasonable advance notice prior to activation. Pre-determined actions will provide the framework for rapid adaptation of the special use airspace to handle extraordinary events. The LOP will also address the maintenance of the alert system discussed below. After the LRDR system is fully integrated into the DoD's BMDS, the FAA and the USSF will enter into a new LOP.

Impact on IFR (Instrument Flight Rules) and VFR (Visual Flight Rules) Terminal Ops

In the NPRM, the FAA noted the R-2206 restricted areas would impact IFR routes between Anchorage and Fairbanks, Alaska, including Jet Route J-125, VOR Federal Airway V-436, and Area Navigation (RNAV) Route Q-41. The FAA identified the need for mitigations altering the current airway/route structure to revise the affected airways around the expansion of R-2206. Subsequent to the NPRM, the FAA published a rule for Docket No. FAA-2021-0245 in the Federal Register (87 FR 65675, November 1, 2022) amending J-125 and V-436. The rule amended J-125 by removing the route segment between the Anchorage, AK, VHF Omnidirectional Range/Distance Measuring Equipment (VOR/DME) and the Nenana, AK VOR/Tactical Air Navigation (VORTAC) navigational aids because adjacent air traffic service routes J-115, Q-43, and Q-41provided the same enroute capability. The rule also amended V-436 by removing the airway segment between the Talkeetna, AK, VOR/DME and the Nenana, AK, VORTAC navigational aids and replaced it with an airway segment that extends between the Talkeetna VOR/DME and the Fairbanks, AK, VORTAC which moved the airway to transition east of the R-2206 restricted areas. Lastly, Q-41 currently and after the effective date of the rule will remain as published. However, ATC currently and after publication will require radar surveillance in certain segments as a mitigation due to the proximity of the route to the current SSI implemented as temporary flight restrictions and the R-2206 restricted areas.

Anchorage Air Route Traffic Control Center (ARTCC) published that requirement in its Operations Bulletin and briefed all the ARTCC air traffic controllers. With the establishment of the R-2206 restricted areas by this rule, the radar surveillance requirement for aircraft filing and flying the Q-41 route segment affected by the restricted areas will be published in the Anchorage ARTCC's Standard Operating Procedures (SOP) guidance replacing the Operation Bulletin.

As addressed in the NPRM, the FAA reviewed the USAF proposal for impact on arrival and departure flows, Standard Terminal Arrival Route (STAR), Standard Instrument Departure (SID), and departure procedures, and identified a number procedures that needed to be revised to avoid the R-2206 restricted areas. The affected SIDs at Fairbanks International Airport were amended and published in the Flight Information Publication (FLIP) effective August 12, 2021. The affected STARs at Ted Stevens International Airport and the affected instrument approach procedures and obstacle departure procedure at Healy River Airport were amended and are being held to publish in the FLIP effective December 29, 2022. Amendment and publication in the FLIP of the affected SIDs, STARs, instrument approach procedures, and obstacle departure procedure listed in the NPRM ensures the IFR and VFR terminal operations at Fairbanks International Airport, Ted Stevens International Airport, and Healy River Airport are unaffected by the restricted areas.

United States Space Force

The USSF was established on December 20, 2019, when the NDAA for FY 2020 was signed into law. As part of the establishment of the USSF, the using agency unit proposed in the NPRM, 13th Missile Warning Squadron, transitioned from the Air Force Space Command within the USAF to the USSF and was renamed the 13th Space Warning Squadron. The USSF will oversee the LRDR operations at Clear AFS once the system is fully integrated into the DoD's BMDS. Finally, on June 15, 2021, Clear AFS was renamed to Clear Space Force Station (SFS).

Differences From the NPRM

In the NPRM published for Docket No. FAA-2020-0755, the FAA identified an editorial error in describing the proposed altitude floor for restricted area R-2206C. In the preamble of the NPRM, the altitude floor for R-2206C was described incorrectly as 1,100 feet mean sea level (MSL). The correct altitude floor for R-2206C is 1,600 feet MSL. Although the altitude floor for R-2206C was described incorrectly in the preamble of the NPRM, it was described correctly in the proposed regulatory text of the NPRM as 1,600 feet MSL. Therefore, this rule retains the R-2206C designated altitudes listed in the description in the regulatory text as proposed.

Also in the NPRM for Docket No. FAA-2020-0755, editorial errors in describing the proposed altitude floors for restricted areas R-2206B and R-2206D, were identified. In the preamble of the NPRM, the altitude floors were described incorrectly as 1,100 feet MSL. The correct altitude floor for R-2206B and R-2206D is 1,000 feet MSL. Although the altitude floors for R-2206B and R-2206D were described incorrectly in the preamble of the NPRM, they were described correctly in the proposed regulatory text of the NPRM as 1,000 feet MSL. Therefore, this rule retains the R-2206B and R-2206D designated altitudes listed in the descriptions in the regulatory text as proposed.

Lastly, in the NPRM for Docket No. FAA-2020-0755, the using agency for the restricted area descriptions in the regulatory text was listed as, “Commander 13th Missile Warning Squadron, Clear, AK.” However, as a result of the establishment of the USSF and the renaming of the unit to 13th Space Warning Squadron, as noted above, this rule corrects the restricted areas using agency to Commander, 13th Space Warning Squadron, Clear, AK.

Discussion of Comments

The FAA received eleven comments on the NPRM. Ten of the comments were submitted by individuals and one comment was submitted by the Alaska Airmen's Association.

The Alaska Airmen's Association and three other commenters stated that the proposed airspace design may be too complicated based on the FAA's interim approach of establishing Special Security Instructions (SSI) in accordance with 14 CFR 99.7, implemented as a temporary flight restriction, to protect aviation from the HIRF produced during the testing phases of the LRDR. The Alaska Airmen's Association commented that none of the third-party mapping applications are able to display correctly a graphic depiction of the current SSI implemented as temporary flight restrictions identified in the NOTAMs. Commenters also noted that without the ability to precisely determine the status (i.e., active or inactive) of the SSI implemented as temporary flight restrictions, it will likely cause inadvertent and repeated incursions into the temporary flight restrictions.

The FAA acknowledged the concerns about SSI as implemented as temporary flight restrictions and took action to address the issues with the interim approach while developing this final rule. Two NOTAMs were published as an interim approach to protecting aircraft during the LRDR testing phase, one for the continuously active SSI implemented as temporary flight restrictions, which correlate with the designation of R-2206B, C, and G restricted areas and one for the non-continuously active SSI implemented as temporary flight restrictions, which correlate with designation of R-2206D-F restricted areas.

The FAA determined the source of the confusion with these NOTAMs and lack of charted depictions came from the overlapping altitudes of the temporary flight restrictions. The overlapping altitudes of the two SSI implemented as temporary flight restrictions caused errors in the shape files that resulted in the graphical depictions of the flight restricted areas not being displayed on the FAA's Temporary Flight Restriction (TFR) website or third part charting applications. The FAA adjusted the overlapping altitudes of the SSI implemented as temporary flight restrictions and republished the NOTAMs with the changed altitudes on May 7, 2021. As a result, the FAA's TFR website and all third-party charting applications were able to display the SSI implemented as temporary flight restrictions correctly. Pilots have been able to better familiarize themselves with the SSI temporary flight restrictions since May 2021.

The concerns associated with the SSI as implemented as temporary flight restrictions graphical depictions not displaying properly will not carry forward with the establishment of the new restricted areas R-2206A-G pursuant to Part 73. The restricted areas will be depicted correctly on the associated aeronautical charts following the effective date of this rule.

Five individual commenters expressed concerns that the proposed restricted areas (R-2206A-G) would lead to the closure of PACL and remove the ability to navigate under visual flight rules (VFR) via the Parks Highway (Alaska Highway 3) when the restricted areas are active.⁵

⁵ The agency notes that one additional individual commenter simply expressed that adopting the proposal would make life a lot harder for pilots conducting VFR operations, with no further explanation.

The FAA previously considered this issue and addressed the concern in a Letter of Agreement (LOA) ⁶ between the FAA, MDA, and USSF. The procedures in the LOA requires MDA to halt its activities to allow for flights to access PACL. With the establishment of the restricted areas by this rule, the FAA, MDA, and USSF will establish a Letter of Procedure (LOP) to reflect the restricted areas airspace instead of the SSI implemented as temporary flight restrictions. To further mitigate impacts, the low-altitude restricted areas R-2206D-F will only be utilized for testing between 0200-0400 Tuesday, Thursday, and Saturday to support scheduled calibration. Outside of the scheduled times for testing, the FAA anticipates that the airspace would likely only be activated in the interest of the national defense of the United States as a result of a real world event. When the restricted areas are not active, pilots can land and depart PACL unrestricted.

⁶ In the NPRM, the FAA referenced a Letter of Procedure being in place prior to the final rule. However, the proper term is Letter of Agreement.

Also, in response to comments received during the FAA Safety Risk Management Panel (SRMP) requesting increased navigable airspace surrounding Parks Highway, the FAA, MDA, and USAF collaborated on the development of R-2206F and the FAA added R-2206F to the proposal. R-2206F allows VFR navigation via the Parks Highway without impacting the overall design of the restricted areas. Finally, the short activation times for R-2206F will further mitigate and minimize impacts to pilots conducting such VFR operations, navigating via the Parks Highway.

Two individual commenters expressed their concerns that instrument flight rules (IFR) procedures into Healy River Airport (HRR) will be eliminated. The FAA retained the IFR procedures into HRR and kept them available for use, as needed. The FAA also developed an interim procedure, in collaboration with the MDA, which allows for activities occurring within the SSI implemented as temporary flight restrictions to be temporarily halted, as necessary, to enable IFR flights into HRR. Finally, the FAA developed new, permanent HRR approach and departure procedures that will not be affected by the R-2206A-G restricted areas once they are established. The new HRR IFR approach and departure procedures are planned to be published in the FLIP concurrent with the effective date of this rule establishing the R-2206 restricted areas.

The Alaska Airmen's Association expressed concerns that when the LRDR becomes operational, R-2206D-F could go active without warning, for a real world event. They further cited the MDA stating that for reasons of operational security, there can be no prior notification for activating the lower zones.

At the time that the NPRM published, neither the FAA nor MDA had a mechanism in place to notify pilots when R-2206D-F activate outside of prescheduled periods. The communications coverage for real-time notifications by air traffic control near the Clear LRDR and PACL airport was deficient. Anchorage ARTCC has no communications coverage and the local Flight Service Station's communications was intermittent. As such, without other communications measures in place, there was an unacceptable risk for airspace users flying near the LRDR area, entering the low-altitude restricted airspace in R-2206D-F while it was active. Accordingly, to overcome this problem, the FAA, again, in collaboration with the MDA, implemented an actionable and timely notification system that is currently operational. The system includes a dedicated frequency (133.25 VHF) and a visual warning light with daytime and nighttime patterns. The dedicated frequency continually broadcasts a message to aviators on the status of the SSI implemented as temporary flight restrictions currently and will for the restricted areas established by this rule. The transmission is audible from the PACL for aircraft holding short of all runway entry points; the PACL north ramp for helicopter operations by the Bureau of Land Management; while flying northbound from Healy River Airport (PAHV) over the city of Ferry, AK; and while flying southbound from Nenana Airport (PANN) along the Parks Highway. The visual warning light is visible, day and night, while flying southbound from PANN airport between 1,000 feet and 2,600 feet AGL and along the Parks Highway. It is also visible while flying toward PACL between 500 feet and 1,500 feet AGL at 4 NM from headings of 090°, 120°, and 180°; and while flying towards PACL between 500 feet and 1,500 feet AGL at 5.1 NM and 7.3 NM, respectively, from a heading of 360°. The warning light is not visible from the surface; however, aircraft on the ground are encouraged to use the dedicated frequency, 133.25 VHF, for restricted area status updates. Additionally, the Alaska Department of Transportation installed 4 signs on PACL at each of the 3 runway hold short lines and 1 at the north ramp, where helicopters depart, to notify pilots, prior to departure, of the dedicated alerting frequency that is broadcasting the SSI implemented as temporary flight restrictions status currently and the restricted areas established by this rule status as further encouragement.

The Rule

This action amends 14 CFR part 73 by renaming R-2206 to R-2206A and establishing 6 new restricted areas R-2206B, R-2206C, R-2206D, R-2206E, R-2206F, and R-2206G, over the Clear SFS at Clear, AK. The FAA has determined that the action is necessary to protect aircraft from the hazardous HIRF produced by the MDA's LRDR and segregate non-participating aircraft. Full legal descriptions of the restricted areas are contained in “The Amendment” section as set forth below.

R-2206A: R-2206 is amended by renaming it R-2206A. There is no change to the boundaries as established under R-2206. The designated altitudes extend upward from the surface to 8,800 feet MSL. R-2206A is active continuously.

R-2206B: R-2206B is established west of PACL, fanning clockwise from the southwest to the northwest, excluding the portion within R-2206A, with the eastern boundary located 3 NM west of PACL. The designated altitudes extend upward from 1,000 feet MSL to, but not including 1,600 feet MSL. R-2206B is active continuously.

R-2206C: R-2206C is established west of PACL, fanning clockwise from the southwest to the northwest, excluding the portion within R-2206A, with the eastern boundary located 3 NM west of PACL. The designated altitudes extend upward from 1,600 feet MSL to 32,000 feet MSL. R-2206C is active continuously.

R-2206D: R-2206D is established northwest of PACL, fanning clockwise from the northwest to north, excluding the portion within R-2206A, with the eastern boundary located ½ NM west of PACL. The designated altitudes extend upward from 1,000 feet MSL to, but not including 1,600 feet MSL. R-2206D activation times are 0200-0400 local time, Tuesday, Thursday, and Saturday; other times by NOTAM.

R-2206E: R-2206E is established north of PACL, fanning clockwise from the northwest to the northeast, excluding the portion within R-2206A, with the eastern boundary located ½ NM west of PACL. The designated altitudes extend upward from 1,600 feet MSL to, but not including 2,100 feet MSL. R-2206E activation times are 0200-0400 local time, Tuesday, Thursday, and Saturday; other times by NOTAM.

R-2206F: R-2206F is established northeast of PACL, enabling VFR aircraft to transition along Alaska Highway 3 (the Parks Highway) with the southern boundary located 3 NM north of PACL. The designated altitudes extend upward from 2,100 feet MSL to 3,200 feet MSL. R-2206F activation times are 0200-0400 local time, Tuesday, Thursday, and Saturday; other times by NOTAM.

R-2206G: R-2206G is established north of PACL, fanning clockwise from the northwest to the northeast, excluding the portions within R-2206A and R-2206F, with the eastern boundary located ½ NM west of PACL. The designated altitudes extend upward from 2,100 feet MSL to 32,000 feet MSL. R-2206G is active continuously.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this rulemaking action of renaming restricted area R-2206 to R-2206A and establishing six new restricted areas R-2206B, R-2206C, R-2206D, R-2206E, R-2206F, and R-2206G, over Clear, AK qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this rulemaking action is not expected to cause or result in any potentially significant environmental impacts. In accordance with FAA Order 1050.1F, paragraph 5-2 regarding Extraordinary Circumstances, the FAA has reviewed this rulemaking action for factors and circumstances in which a normally categorically excluded action may have a significant environmental impact requiring further analysis, and has determined that no extraordinary circumstances exist warranting preparation of an environmental assessment or environmental impact study.

On May 7, 2021, the MDA, as the lead agency, announced the availability of its Final Environmental Impact Statement (EIS) for the Long Range Discrimination Radar (LRDR) located at Clear Air Force Station (CAFS), Alaska. 86 FR 24599-24600. The FAA and the Department of the Air Force (DAF) are cooperating agencies to the Final EIS. The MDA's EIS analyzed the operational impacts of the LRDR, including airspace restrictions necessary to ensure that aircraft would not encounter high intensity radiation fields (HIRF) resulting from the LRDR operations that exceed FAA's HIRF certification standards for aircraft electrical and electronic systems. The proposed airspace restrictions include expansion of the existing restricted area (R-2206) at CAFS by adding six new restricted areas. The preferred alternative is to operate the LRDR continuously under the changed operational concept and to implement the associated proposed airspace restrictions as described in the Proposed Action analyzed in the Final EIS.

On June 24, 2021, the MDA as lead agency, with the DAF as a cooperating agency, issued a joint Record of Decision (ROD) to implement changes in operational concept for the LRDR at CAFS, Alaska. 86 FR 33240. The ROD includes modification of the LRDR operational requirements and procedures to reflect continuous operations in response to emerging threats. The action enables the MDA to meet its congressional mandate to fully support the primary mission of the layered Missile Defense System (MDS) to provide continuous and precise tracking and discrimination of long-range missile threats launched against the United States. The FAA is a cooperating agency on the LRDR CAFS EIS because it has special expertise and jurisdiction by law, pursuant to 49 U.S.C. 40101 et seq., for aviation and regulation of air commerce in the interests of aviation safety and efficiency. The MDA requested that the FAA, as a cooperating agency, consider and adopt, in whole or in part, the Final EIS as the required NEPA documentation to support FAA decisions on the establishment of restricted areas. The airspace associated with the proposed action and alternative lies within the jurisdiction of the FAA Anchorage Air Route Traffic Control Center. FAA established 6 new restricted areas and made related changes in airspace management.

On July 6, 2021, the FAA adopted the airspace portion of the MDA's EIS per FAA's policy for Adoption of Other Agencies' NEPA Documents in FAA Order 1050.1F, Paragraph 8-2. On August 23, 2021, the FAA issued a Notice of Availability for its adoption of MDA's Final EIS for LRDR Operations, Clear Air Force Station, Alaska (CAFS), and Record of Decision for FAA actions to accommodate testing and operation of the LRDR at CAFS under the MDA's Modified Operational Concept; Adoption of the Missile Defense Agency's Final Environmental Impact Statement for Long Range Discrimination Radar (LRDR) Operations, Clear Air Force Station, Alaska (CAFS), and Record of Decision for Federal Aviation Administration Actions to Accommodate Testing and Operation of the LRDR at CAFS under the Missile Defense Agency's Modified Operational Concept, which addresses the FAA's decision to establish additional restricted areas to protect aviation from HIRF generated during the LRDR testing and operation, implement temporary flight restrictions until the restricted areas are in effect, and make changes to federal airways and instrument flight procedures to accommodate the new restricted areas (86 FR 47195, August 23, 2021).

Lists of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p. 389

§ 73.22 [Amended]

2. Section 73.22 is amended as follows:

* * * * *

R-2206 Clear, AK [Removed]

R-2206A Clear, AK [New]

Boundaries. Beginning at lat. 64°19′44″ N, long. 149°15′42″ W; to lat. 64°19′44″ N, long. 149°10′18″ W; thence south, 100 feet west of and parallel to the Alaska Railroad to lat. 64°16′17″ N, long. 149°10′14″ W; to lat. 64°16′17″ N, long. 149°15′42″ W; to the point of beginning.

Designated Altitudes. Surface to 8,800 feet MSL.

Time of designation. Continuous.

Controlling agency. FAA, Anchorage ARTCC.

Using agency. Commander 13th Space Warning Squadron, Clear, AK.

R-2206B Clear, AK [New]

Boundaries. Beginning at lat. 64°20′13″ N, long. 149°13′12″ W; to lat. 64°17′20″ N, long. 149°11′25″ W; to lat. 64°14′31″ N, long. 149°13′43″ W; thence clockwise along a 3.0 NM arc radius centered at lat. 64°17′20″ N, long. 149°11′25″ W; thence to the point of beginning; excluding that portion wholly contained in R-2206A.

Designated Altitudes. 1,000 feet MSL to, but not including 1,600′ MSL.

Time of designation. Continuous.

Controlling agency. FAA, Anchorage ARTCC.

Using agency. Commander 13th Space Warning Squadron, Clear, AK.

R-2206C Clear, AK [New]

Boundaries. Beginning at lat. 64°19′27″ N, long. 149°20′22″ W; thence clockwise along a 4.0 NM arc radius centered at lat. 64°20′22″ N, long. 149°11′25″ W; to lat. 64°23′56″ N, long. 149°15′30″ W; to lat. 64°17′20″ N, long. 149°11′25″ W; to lat. 64°14′10″ N, long. 149°14′01″ W; thence along a 3.0 NM arc radius centered at lat. 64°16′55″ N, long. 149°16′41″ W; to the point of beginning; excluding that portion wholly contained in R-2206A.

Designated Altitudes. 1,600 feet MSL to 32,000 feet MSL.

Time of designation. Continuous.

Controlling agency. FAA, Anchorage ARTCC.

Using agency. Commander 13th Space Warning Squadron, Clear, AK.

R-2206D Clear, AK [New]

Boundaries. Beginning at lat. 64°20′13″ N, long. 149°13′12″ W; thence clockwise along a 3.0 NM arc radius centered at lat. 64°17′20″ N, long. 149°11′25″ W; to lat. 64°18′47″ N, long. 149°05′23″ W; to lat. 64°17′20″ N, long. 149°11′25″ W; thence to point of beginning; excluding that portion wholly contained in R-2206A.

Designated Altitudes. 1,000 feet MSL to but not including 1,600 feet MSL.

Time of designation. 0200-0400 local time, Tuesday, Thursday and Saturday; other times by NOTAM.

Controlling agency. FAA, Anchorage ARTCC.

Using agency. Commander 13th Space Warning Squadron, Clear, AK.

R-2206E Clear, AK [New]

Boundaries. Beginning at lat. 64°23′56″ N, long. 149°15′30″ W; thence clockwise along a 4.0 NM arc radius centered at lat. 64°20′22″ N, long. 149°11′25″ W; to lat. 64°19′29″ N, long. 149°02′27″ W; to lat. 64°17′20″ N, long. 149°11′25″ W; thence to point of beginning; excluding that portion wholly contained in R-2206A.

Designated Altitudes. 1,600 feet MSL to but not including 2,100 feet MSL.

Time of designation. 0200-0400 local time, Tuesday, Thursday and Saturday; other times by NOTAM.

Controlling agency. FAA, Anchorage ARTCC.

Using agency. Commander 13th Space Warning Squadron, Clear, AK.

R-2206F Clear, AK [New]

Boundaries. Beginning at lat. 64°22′07″ N, long. 149°03′09″ W; thence clockwise along the 4.0 NM arc radius centered at lat. 64°20′22″ N, long. 149°11′25″ W; to lat. 64°19′29″ N, long. 149°02′27″ W; to lat. 64°19′19″ N, long. 149°03′07″ W; to lat. 64°19′36″ N, long. 149°03′18″ W; thence north, along a path ½ NM west of Highway 3, Parks Highway; to lat. 64°21′42″ N, long. 149°03′37″ W; to the point of beginning;

Designated Altitudes. 2,100 feet MSL to 3,200 feet MSL.

Time of designation. 0200-0400 local time, Tuesday, Thursday and Saturday; other times by NOTAM.

Controlling agency. FAA, Anchorage ARTCC.

Using agency. Commander 13th Space Warning Squadron, Clear, AK.

R-2206G Clear, AK [New]

Boundaries. Beginning at lat. 64°23′56″ N, long. 149°15′30″ W; thence clockwise along a 4.0 NM arc radius centered at lat. 64°20′22″ N, long. 149°11′25″ W; to lat. 64°19′29″ N, long. 149°02′27″ W; to lat. 64°17′20″ N, long. 149°11′25″ W; thence to point of beginning; excluding; (1) that portion wholly contained in R-2206A; (2) that portion wholly contained in R-2206F.

Designated Altitudes. 2,100 feet MSL to 32,000 feet MSL.

Time of designation. Continuous.

Controlling agency. FAA, Anchorage ARTCC.

Using agency. Commander 13th Space Warning Squadron, Clear, AK.

* * * * *

Issued in Washington, DC, on November 2, 2022.
Scott M. Rosenbloom,
Manager, Airspace Rules and Regulations.

[FR Doc. 2022-24242 Filed 11-3-22; 11:15 am]

BILLING CODE 4910-13-P